SMALL BUSINESS ADMINISTRATION

Main Street Mezzanine Fund, L.P., License No. 06/06-0326; Notice Seeking Exemption Under Section 312 of the Small Business Investment Act, Conflicts of Interest

Notice is hereby given that Main Street Mezzanine Fund, L.P., 1300 Post Oak Blvd., Suite 800, Houston, TX 77056, a Federal Licensee under the Small Business Investment Act of 1958, as amended (“the Act”), in connection with the financing of a small concern, has sought an exemption under Section 312 of the Act and Section 107.730, Financings which constitute Conflicts of Interest of the Small Business Administration (“SBA”) Rules and Regulations (13 CFR part 107). Main Street Mezzanine Fund, L.P. proposes to provide loan financing to PCI Holding Company, Inc., 1007 Church Street, Suite 420, Evanston, IL 60201.

The financing is brought within the purview of § 107.730(a) of the Regulations because Main Street Capital II, L.P., an Associate of Main Street Mezzanine Fund, L.P., holds a direct ownership interest in PCI Holding Company, Inc., of greater than 10 percent. Therefore, PCI Holding Company Inc. is an Associate of Main Street Mezzanine Fund, L.P. Therefore this transaction requires a prior SBA exemption.

Notice is hereby given that any interested person may submit written comments on the transaction, within fifteen days of the date of this publication, to the Associate Administrator for Investment and Innovation, U.S. Small Business Administration, 409 Third Street SW., Washington, DC 20416.

Dated: April 28, 2016.
Mark L. Walsh,
Associate Administrator, Office of Investment and Innovation.

[FR Doc. 2016-10469 Filed 5-3-16; 8:45 am]

BILLING CODE 8025-01-P